DEPARTMENT OF HEALTH AND HUMAN SERVICES

Health Resources and Services Administration

Notice of Correction

AGENCY: Health Resources and Services Administration.

ACTION: Notice; correction.

SUMMARY: In the Federal Register notice of Monday, June 5, 2000, in FR Doc. 00-13951, on page 35657, beginning in the first column under grant category (2) “Partnership for State Oral Health Leadership Cooperative Agreement (MCHB),” reference is made to “Funding Priorities and/or Preferences: A funding preference will be given to institutions of higher learning with extensive experience in early discharge research, linkage with the Secretary's Advisory Committee on Infant Mortality, and published research and recognition in the relevant field.” This reference was erroneous and should be corrected to read: “Funding Priorities and/or Preferences: None.”

FOR FURTHER INFORMATION CONTACT: David Heppel, M.D., Director, Division of Child, Adolescent, and Family Health, Maternal and Child Health Bureau, Health Resources and Services Administration, Room 18A-30, Parklawn Building, 5600 Fishers Lane, Rockville, MD 20857; telephone 1-301-443-2250.

Dated: June 30, 2000.
James J. Corrigan,
Associate Administrator for Management and Program Support.

[FR Doc. 00-17279 Filed 7-7-00; 8:45 am]

BILLING CODE 4160-15-P